DEPARTMENT OF THE TREASURY

Internal Revenue Service

Open meeting of the Taxpayer Advocacy Panel

AGENCY: Internal Revenue Service (IRS) Treasury.

ACTION: Notice of meeting.

SUMMARY: An open meeting of the Taxpayer Advocacy Panel will be conducted. The Taxpayer Advocacy Panel is soliciting public comments, ideas, and suggestions on improving customer service at the Internal Revenue Service. Several different project committees will hold discussions during this time. For more information, please contact Ms. Susan Gilbert, whose information is below.

DATES: The meeting will be held Tuesday, December 6, 2011 and Wednesday, December 7, 2011.

FOR FURTHER INFORMATION CONTACT: Susan Gilbert at 1-(888) 912-1227 or (515) 564-6638.

SUPPLEMENTARY INFORMATION: Notice is hereby given pursuant to Section 10(a)(2) of the Federal Advisory Committee Act, 5 U.S.C. App. (1988) that an open meeting of the Taxpayer Advocacy Panel will be held from Tuesday, December 6 to Wednesday, December 7, 2011 at the Capital Hilton Hotel in Washington, DC. Various subcommittee meetings will be held during the following times: Tuesday, December 6, 2011 from 11:05 a.m. to 11:50 a.m. and 1 p.m. to 5:15 p.m., and Wednesday, December 7, 2011 from 11:05 a.m. to 11:50 a.m. and from 1 p.m. to 5:15 p.m. If you would like to have the Taxpayer Advocacy Panel consider a written statement, please contact Susan Gilbert. For more information please contact Ms. Gilbert at 1-(888) 912-1227 or (515) 564-6638 or write: TAP Office, 210 Walnut Street, Stop 5115, Des Moines, IA 50309 or contact us at the Web site: http://www.improveirs.org.

Dated: November 2, 2011.
Linda Rivera,
Acting Director, Taxpayer Advocacy Panel.

[FR Doc. 2011-28971 Filed 11-8-11; 8:45 am]

BILLING CODE 4830-01-P